DEPARTMENT OF AGRICULTURE

Agricultural Marketing Service

[Doc. No. AMS-DA-23-0064]

Notice of Request for Approval of an Existing Information Collection in Use Without an OMB Control Number

AGENCY: Agricultural Marketing Service, USDA.

ACTION: Notice and request for comments.

SUMMARY: In accordance with the Paperwork Reduction Act of 1995, this notice announces the Agricultural Marketing Service's (AMS) intent to request approval from the Office of Management and Budget (OMB) of an existing information collection in use without an OMB control number for Dairy Market News pursuant to Section 203(g) of the Agricultural Marketing Act of 1946, as amended.

DATES: Comments on this notice must be received by February 21, 2025 to be considered.

ADDRESSES: Interested persons are invited to submit comments by using the electronic process available at https://www.regulations.gov or sent to Lorie Cashman, Director, Economics Division, AMS Dairy Program, 4600 American Parkway, STE 106, Madison, WI 53718. All comments should reference the docket number (AMS-DA-23-0064), the date, and page number of this issue of the Federal Register. All comments received will be posted without change, including any personal information provided at https://www.regulations.gov and will be included in the record and made available to the public. Please do not include personally identifiable information (such as name, address, or other contact information) or confidential business information that you do not want publicly disclosed. Comments may be submitted anonymously.

FOR FURTHER INFORMATION CONTACT: Lorie Cashman, Director, Economics Division, AMS Dairy Program, by telephone: (202) 720-4405, or by email: Lorie.Cashman@usda.gov.

SUPPLEMENTARY INFORMATION: Dairy Market News (DMN) covers supply, demand, and pricing on a regional, national, and international basis for milk, butter, cheese, and dry and fluid milk products. The DMN goal is to provide timely and unbiased market insight that helps American farmers and businesses understand market trends and make informed decisions about the marketing, sale, and delivery of their products. The Agricultural Marketing Service (AMS) administers programs that provide information to facilitate domestic and international marketing opportunities for U.S. producers of food, fiber, and specialty crops. Within that AMS framework, the DMN program focuses on providing domestic and international market information on various dairy commodities.

Title: Dairy Market News.

OMB Number: 0581-NEW.

Expiration Date of Approval: Three years from approval date.

Type of Request: Existing Information Collection in use without an OMB Control Number.

Abstract: Section 203(g) of the Agricultural Marketing Act of 1946, as amended (7 U.S.C. 1621 et seq), authorizes the Secretary of Agriculture to collect and disseminate marketing information on a market-area basis for the purpose of anticipating and meeting consumer requirements, aiding in the maintenance of farm income, and bringing about a balance between production and utilization of agricultural products by providing timely coverage of prices, supply, demands, trends, movement, and other pertinent information affecting the trading of milk and dairy products. The market reports compiled and disseminated by the AMS Dairy Program's DMN provide current, unbiased, and factual information to all stakeholders in the U.S. agricultural industry. DMN reports assist producers, processors, wholesalers, retailers, and others to make informed production, purchasing, and sales decisions. DMN reports also promote orderly marketing by fostering a more equitable relationship between buyers and sellers.

DMN reporters communicate with buyers and sellers of fluid milk and manufactured dairy products about their respective commodities generally on a weekly basis to accomplish the DMN mission. These communications are voluntary. Participants are members of dairy industry businesses and trade organizations with whom DMN has established connections. Conversations typically last less than 5 minutes on a weekly basis. This communication and information gathering is accomplished through the use of telephone conversations, face-to-face and/or virtual meetings, and email messages. The information provided by respondents facilitates DMN reporting, which must be timely, accurate, unbiased, and continuous if it is to be meaningful to the industry. DMN collects information on price, supply, demand, trends, movement, and other information of milk and dairy products from the respondents.

Estimate of Burden: Public reporting burden for this collection of information is estimated to average .083 hours per response.

Respondents: Processors, brokers, traders, and farms.

Estimated Number of Respondents: 120.

Estimated Total Annual Responses: 6,240.

Estimated Number of Responses per Respondent: 52 (rounded).

Estimated Total Annual Burden on Respondents: 518 hours (rounded).

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

AMS developed the estimates of burden and cost to the industry using publicly available listings of dairy manufacturers, brokers, and traders. Phone calls occur weekly with each participant and last about 5 minutes. Labor costs are derived from tables on the Bureau of Labor Statistics website for private industry workers' wages as well as for average employer costs per hour for benefits.

All comments on this notice will be summarized and included in the submission for OMB approval and will become a matter of public record.

AMS is committed to complying with the E-Government Act to promote the use of the internet and other information technologies, to provide increased opportunities for citizen access to Government information and services, and for other purposes.

A 60-day comment period is provided to allow interested persons to respond to the notice.

Authority: 44 U.S.C. chapter 35.

Erin Morris,
Associate Administrator, Agricultural Marketing Service.

[FR Doc. 2024-30497 Filed 12-20-24; 8:45 am]

BILLING CODE P